DEPARTMENT OF THE INTERIOR

National Park Service

ACTION: Chaco Culture National Historical Park; Transfer of Administrative Jurisdiction Over Certain Lands

DATES: The effective date of this Order shall be the date of publication in the Federal Register.

SUMMARY: Title V of the Act of December 19, 1980, Pub. L. No. 96-550, 94 Stat. 3227, codified as amended at 16 U.S.C. 410ii through 410ii-7 (1994), abolished Chaco Canyon National Monument and established an enlarged park known as Chaco Culture National Historical Park in northwestern New Mexico. Within the enlarged park boundaries were 1,755.40 acres of land, more or less, owned by the State of New Mexico. On March 31, 2000, the Bureau of Land Management acquired the 1,755.40 acres, in the name of the United States, in a land exchange with the State, along with additional lands outside the park. On August 14, 2000, the Bureau of Land Management advised that it was transferring administrative jurisdiction on the 1,755.40 acres to the National Park Service.

The lands and/or interests acquired by the Bureau of Land Management, subject to this notice, are designated as Tracts 01-154, 01-159, 01-168, and 01-174, within the park. Notice is hereby given that, as of the date of publication of this notice, administrative jurisdiction over the lands and/or interests in land, consisting of 1,755.40 acres, more or less, is formally transferred to the National Park Service.

Maps and legal descriptions of these particular lands are available for inspection at Chaco Culture National Historical Park Headquarters and the National Park Service, Land Resources Program Center, 2968 Rodeo Park Drive West, Santa Fe, New Mexico 87505.

Dated: August 31, 2000.
Karen Wade,
Regional Director, Intermountain Region, National Park Service.

[FR Doc. 00-24695 Filed 9-25-00; 8:45 am]

BILLING CODE 4310-70-P